DEPARTMENT OF ENERGY

Federal Energy Regulatory Commission

[Docket No. CP06-53-000]

Eastern Shore Natural Gas Company; Notice of Intent To Prepare an Environmental Assessment for the Proposed 2006-2008 Expansion Project and Request for Comments on Environmental Issues

March 15, 2006.

The staff of the Federal Energy Regulatory Commission (FERC or Commission) is preparing an environmental assessment (EA) that will discuss the environmental impacts of Eastern Shore Natural Gas Company's (ESNG) proposed 2006-2008 Expansion Project involving construction and operation of natural gas pipeline facilities in Chester County, Pennsylvania, and New Castle, Kent, and Sussex Counties, Delaware.¹ This EA will be used by the Commission in its decision-making process to determine whether the project is in the public convenience and necessity.

¹ ESNG's application was filed with the Commission under section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” is available for viewing on the FERC Internet Web site (http://www.ferc.gov). This fact sheet addresses a number of typically asked questions, including the use of eminent domain and how to participate in the Commission's proceedings.

Summary of the Proposed Project

The purpose of ESNG's project is to increase the capacity of its existing pipeline system to accommodate growing demand within its market area. To meet this demand, ESNG would construct about 55 miles of various diameter pipeline and two new meter stations. Specifically, ESNG proposes to add 15.0 miles of mainline pipeline, 40.0 miles of looping pipeline and appurtenant facilities. The project is composed of seven segments and includes:

• Segment 1 (Chester County, PA)—About 1.5 miles of 16-inch-diameter pipeline, looping ESNG's existing 8-inch-diameter Parkesburg mainline;

• Segment 1A (Chester County, PA)—About 0.6 mile of 16-inch-diameter pipeline, looping ESNG's two existing pipelines;

• Segment 2 (New Castle and Kent Counties, DE)—About 23.8 miles of 16-inch-diameter pipeline, looping ESNG's existing 10-inch-diameter Hockessin mainline;

• Segment 3 (New Castle County, DE)—About 6.1 miles of 10-inch-diameter pipeline, looping ESNG's existing 6-inch-diameter Parkesburg mainline;

• Segment 4 (Sussex County, DE)—About 4.0 miles of 10-inch-diameter pipeline, looping ESNG's existing 6-inch-diameter Parkesburg mainline;

• Segment 5 (Sussex County, DE)—About 4.0 miles of 10-inch-diameter pipeline, looping ESNG's existing 6-inch-diameter Cambridge/Easton mainline; and

• Segment 6 (Sussex County, DE)—About 15.0 miles of 6-inch-diameter pipeline to tie into an existing ESNG 6-inch-diameter pipeline upstream and extend southerly to Millsboro, DE.

ESNG also proposes to construct two new metering stations located at Mileposts 10.4 and 15.0 as part of Segment 6.

The general locations of the project facilities are shown in Appendix 1.²

² The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

For instructions on connecting to eLibrary refer to the last page of this notice. Copies of the appendices were sent to all those receiving this notice in the mail.

Land Requirements for Construction

Construction of the proposed facilities would require about 752.46 acres of land including some of ESNG's existing permanent easement. Following construction, about 1.52 acres would be maintained for new permanent easement and operation of the aboveground facility sites. The remaining 750.94 acres of land would be restored and allowed to revert to its former use.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ³ will discuss impacts that could occur as a result of the construction and operation of the proposed project under these general headings:

³ “We”, “us”, and “our” refer to the environmental staff of the Office of Energy Projects (OEP).

• Geology and soils

• Land use

• Water resources, fisheries, and wetlands

• Cultural resources

• Vegetation and wildlife

• Air quality and noise

• Endangered and threatened species

• Hazardous waste

• Public safety

We will also evaluate possible alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by ESNG. This preliminary list of issues may be changed based on your comments and our analysis.

Project-related impact on:

• Residences or structures within 50 feet of construction work space;

• Wellhead Water Resource Protection Areas;

• Effects to private water wells;

• Waterbody crossings;

• Construction effects to the Chesapeake and Delaware Canal, Drawyer Creek and the Appoquinimink River;

• Effect to category 5 impaired waterbodies; and

• Restoration of natural landscape.

Public Participation

You can make a difference by providing us with your specific comments or concerns about the project. By becoming a commentor, your concerns will be addressed in the EA and considered by the Commission. You should focus on the potential environmental effects of the proposal, alternatives to the proposal (including alternative locations and/or routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. CP06-53-000.

• Mail your comments so that they will be received in Washington, DC on or before April 17, 2006.

Scoping Meeting

The public scoping meetings are designed to provide another opportunity to offer comments on the proposed project. Interested groups and individuals are encouraged to attend the meetings and to present comments on the environmental issues they believe should be addressed in the EA. A transcript of the meetings will be generated so that your comments will be accurately recorded. There will be one scoping meeting in a centralized location for all segments of the project.

2006-2008 Expansion Project Wednesday—March 29, 2006, 7 p.m. (EST), The AmericInn, 1259 Corn Crib Road, Harrington, DE 19952, (302) 398-3900.

Please note that the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

We may mail the EA for comment. If you are interested in receiving it, please return the Information Request (Appendix 3). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214) (see Appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies to express their interest in becoming cooperating agencies for the preparation of the EA.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E6-4229 Filed 3-23-06; 8:45 am]

BILLING CODE 6717-01-P